FEDERAL COMMUNICATIONS COMMISSION

Deletion of Agenda Items From April 23, 2014 Open Meeting

April 22, 2014.

The following items have been adopted by the Commission and deleted from the list of agenda items scheduled for consideration at the Wednesday, April 23, 2014, Open Meeting and previously listed in the Commission's Notice of April 16, 2014.

Item No. | Bureau | Subject
3 | MEDIA | TITLE: Chapin Enterprises, LLC, Application for a Construction Permit for a Minor Change to a Licensed Facility Applications for Minor Modification of a Construction Permit Station KVSS(FM), Papillion, Nebraska SUMMARY: The Commission will consider a Memorandum Opinion and Order concerning an Application for Review filed by William B. Clay seeking review of a minor modification grant by the Media Bureau.
4 | MEDIA | TITLE: Galaxy Communications, L.P., Application for Modification of License Station WTKV(FM), Oswego, NY SUMMARY: The Commission will consider a Memorandum Opinion and Order concerning an Application for Review filed by Galaxy Syracuse Licensee LLC seeking review of a waiver request denial by the Media Bureau.

Federal Communications Commission.
Marlene H. Dortch,
Secretary, Office of the Secretary, Office of Managing Director.

[FR Doc. 2014-09542 Filed 4-25-14; 8:45 am]

BILLING CODE 6712-01-P